DEPARTMENT OF JUSTICE

[OMB Number 1140-0074]

Agency Information Collection Activities; Proposed eCollection eComments Requested; Revision of a Previously Approved Collection; Explosives Responsible Person Questionnaire

AGENCY: Bureau of Alcohol, Tobacco, Firearms and Explosives, Department of Justice.

ACTION: 60-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 60 days until July 14, 2023.

FOR FURTHER INFORMATION CONTACT: If you have additional comments especially on the estimated public burden or associated response time, suggestions, or need a copy of the proposed information collection instrument with instructions or additional information, please contact Shawn Stevens, Explosives Industry Liaison, Federal Explosives Licensing Center, either by mail at 244 Needy Road, Martinsburg, WV 25405, by email at Shawn.Stevens@atf.gov, or by telephone at 304-616-4400.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The regulations at 27 CFR 555.57 require that all persons holding ATF explosives licenses or permits as of May 23, 2003, must report descriptive information on their responsible persons and possessors of explosives to ATF. Subsequent changes to their list of persons must also be reported. The information collection (IC) OMB 1140-0074 (Explosives Responsible Person Questionnaire—ATF Form 5400.13A/5400.16) is being revised to add a new form (Part B) to the existing requirement. The information collected on this new form will be replacing the Responsible Persons List, which was previously included on (IC) OMB 1140-0070 (Application for Explosives License or Permit—ATF Form 5400.13/5400.16). The new (Part B) will be used to gather information for each Explosives Responsible Person. Additionally, this collection includes a decrease in both, the total number of respondents by 38,125 and the total burden hours by 40 minutes since the last renewal in 2022.

Overview of This Information Collection

1. Type of Information Collection: Revision of a previously approved collection.

2. The Title of the Form/Collection: Explosives Responsible Person Questionnaire.

3. The agency form number, if any, and the applicable component of the Department sponsoring the collection: ATF Form 5400.13A/5400.16. Component: Bureau of Alcohol, Tobacco, Firearms and Explosives, U.S. Department of Justice.

4. Affected public who will be asked or required to respond, as well as the obligation to respond: Affected Public: Private Sector—businesses or other for-profit institutions, individuals or households. Obligation to respond is mandatory per 27 CFR 555.57.

5. An estimate of the total number of respondents and the amount of time estimated for an average respondent to respond: An estimated 11,875 respondents will respond to this collection once annually, and it will take each respondent approximately 20 minutes to complete their responses.

6. An estimate of the total public burden (in hours) associated with the collection: The estimated annual public burden associated with this collection is 3,958 hours which is equal to 11,875 (total respondents) * 1 (# of response per respondent) * .33333 (20 minutes).

7. An estimate of the total cost burden associated with the collection: $0.

Total Burden Hours
Activity | Number of respondents | Frequency | Total annual responses | Time per response (minutes) | Total annual burden (hours)
ATF Form 5400.13A/5400.16 | 11,875 | 1 | 11,875 | 20 | 3,958
Unduplicated Totals | 11,875 |  | 11,875 |  | 3,958

If additional information is required contact: John R. Carlson, Department Clearance Officer, United States Department of Justice, Justice Management Division, Policy and Planning Staff, Two Constitution Square, 145 N Street NE, 4W-218, Washington, DC.

Dated: May 9, 2023.
John Carlson,
Department Clearance Officer for PRA, U.S. Department of Justice.

[FR Doc. 2023-10236 Filed 5-12-23; 8:45 am]

BILLING CODE 4410-14-P